DEPARTMENT OF ENERGY

Federal Energy Regulatory Commission

Combined Notice of Filings #2

Take notice that the Commission received the following electric rate filings:

Docket Numbers: ER12-18-000.

Applicants: Wisconsin Public Service Corporation.

Description: Wisconsin Public Service Corporation submits tariff filing per: Supplemental WPSC and WEPCO BAAOCA filing to be effective N/A.

Filed Date: 10/27/2011.

Accession Number: 20111027-5080.

Comment Date: 5 p.m. Eastern Time on Tuesday, November 1, 2011.

Docket Numbers: ER12-19-000.

Applicants: Upper Peninsula Power Company.

Description: Upper Peninsula Power Company submits tariff filing per: Supplemental UPPCO and WEPCO Coordination Agreement Filing to be effective N/A.

Filed Date: 10/27/2011.

Accession Number: 20111027-5084.

Comment Date: 5 p.m. Eastern Time on Tuesday, November 1, 2011.

Docket Numbers: ER12-207-000.

Applicants: Midwest Independent Transmission System Operator, Inc., ITC Midwest LLC

Description: Midwest Independent Transmission System Operator, Inc. submits tariff filing per 35.13(a)(2)(iii: Cancellation of ITC-Lost Lakes to be effective 10/28/2011.

Filed Date: 10/27/2011.

Accession Number: 20111027-5021.

Comment Date: 5 p.m. Eastern Time on Thursday, November 17, 2011.

Docket Numbers: ER12-209-000.

Applicants: Elektrisola, Inc.

Description: Elektrisola, Inc. submits tariff filing per 35.1: Baseline Filing to be effective 10/27/2011.

Filed Date: 10/27/2011.

Accession Number: 20111027-5053.

Comment Date: 5 p.m. Eastern Time on Thursday, November 17, 2011.

Docket Numbers: ER12-210-000.

Applicants: Midwest Independent Transmission System Operator, Inc.

Description: Midwest Independent Transmission System Operator, Inc. submits tariff filing per 35.13(a)(2)(iii: G034-J171 Amended GIA to be effective 10/28/2011.

Filed Date: 10/27/2011.

Accession Number: 20111027-5082.

Comment Date: 5 p.m. Eastern Time on Thursday, November 17, 2011.

Docket Numbers: ER12-211-000.

Applicants: Wabash Valley Power Association, Inc.

Description: Notice of cancellation of Wabash Valley Power Association, Inc. Rate Schedule No. 32, a Power Supply Agreement with Midwest Energy Cooperative, to be effective January 1, 2011.

Filed Date: 10/27/2011.

Accession Number: 20111027-5106.

Comment Date: 5 p.m. Eastern Time on Thursday, November 17, 2011.

Docket Numbers: ER12-212-000.

Applicants: Midwest Independent Transmission System Operator, Inc.

Description: Midwest Independent Transmission System Operator, Inc. submits tariff filing per 35.13(a)(2)(iii: 10-27-11 ATC Depreciation Rates to be effective 1/1/2012.

Filed Date: 10/27/2011.

Accession Number: 20111027-5117.

Comment Date: 5 p.m. Eastern Time on Thursday, November 17, 2011.

Docket Numbers: ER12-213-000.

Applicants: ISO New England Inc., New England Power Pool Participants Committee.

Description: ISO New England Inc. submits tariff filing per 35.13(a)(2)(iii: Multi-Region NCPC Cost Allocation Changes to be effective 1/1/2012.

Filed Date: 10/27/2011.

Accession Number: 20111027-5118.

Comment Date: 5 p.m. Eastern Time on Thursday, November 17, 2011.

Docket Numbers: ER12-214-000.

Applicants: ALLETE, Inc., Midwest Independent Transmission System Operator, Inc.

Description: ALLETE, Inc. submits tariff filing per 35.13(a)(2)(iii: 10-27-11 ALLETE (MP) Attachment GG to be effective 1/1/2012.

Filed Date: 10/27/2011.

Accession Number: 20111027-5123.

Comment Date: 5 p.m. Eastern Time on Thursday, November 17, 2011.

Take notice that the Commission received the following electric securities filings:

Docket Numbers: ES11-46-000.

Applicants: PECO Energy Company.

Description: Supplemental Information of Exelon Corporation.

Filed Date: 10/27/2011.

Accession Number: 20111027-5066.

Comment Date: 5 p.m. Eastern Time on Monday, November 7, 2011.

Docket Numbers: ES11-47-000.

Applicants: Commonwealth Edison Company.

Description: Supplemental Information of Exelon Corporation.

Filed Date: 10/27/2011.

Accession Number: 20111027-5065.

Comment Date: 5 p.m. Eastern Time on Monday, November 7, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2011.
Nathaniel J. Davis, Sr.,
Deputy Secretary.

[FR Doc. 2011-28868 Filed 11-7-11; 8:45 am]

BILLING CODE 6717-01-P